DEPARTMENT OF ENERGY

Federal Energy Regulatory Commission

Combined Notice of Filings #1

May 14, 2009.

Take notice that the Commission received the following electric rate filings:

Docket Numbers: ER01-468-011; ER00-3621-012; ER02-23-014; ER04-249-008; ER04-318-007; ER05-34-008; ER05-35-008; ER05-36-008; ER05-37-008; ER07-1306-007; ER08-1323-002; ER96-2869-016; ER97-30-009; ER97-3561-008; ER99-1695-016.

Applicants: Dominion Energy Marketing, Inc.; Dominion Nuclear Connecticut, Inc.; Fairless Energy, LLC; Dominion Retail, Inc.; Dominion Energy Kewaunee, Inc.; Dominion Energy New England, Inc.; Dominion Energy Salem Harbor, LLC; Dominion Energy Brayton Point, LLC; Dominion Energy Manchester Street, Inc.; NedPower Mt. Mount Storm, LLC; Fowler Ridge Wind Farm LLC; State Line Energy, LLC; Kincaid Generation, LLC; Virginia Electric & Power Company; Elwood Energy LLC.

Description: Notice of Change in Status of Dominion Resources Services, Inc. on behalf of Dominion Energy Marketing, Inc. et al.

Filed Date: 05/06/2009.

Accession Number: 20090506-5082.

Comment Date: 5 p.m. Eastern Time on Wednesday, May 27, 2009.

Docket Numbers: ER01-3001-021; ER03-647-012; ER01-3001-022; ER03-647-013.

Applicants: New York Independent System Operator, Inc.

Description: New York Independent System Operator, Inc. submits response to the requests for information set forth in the Deficiency Letter.

Filed Date: 05/04/2009.

Accession Number: 20090507-0022.

Comment Date: 5 p.m. Eastern Time on Tuesday, May 26, 2009.

Docket Numbers: ER09-405-001.

Applicants: New York Independent System Operator, Inc.

Description: Report on Restitution Discussions and Request for Deferral of Ruling of New York Independent System Operator, Inc.

Filed Date: 05/11/2009.

Accession Number: 20090511-5245.

Comment Date: 5 p.m. Eastern Time on Monday, June 1, 2009.

Docket Numbers: ER09-1123-000.

Applicants: PJM Interconnection LLC.

Description: PJM Interconnection, LLC submits executed interconnection service agreement with Virginia Electric and Power Company.

Filed Date: 05/12/2009.

Accession Number: 20090513-0239.

Comment Date: 5 p.m. Eastern Time on Tuesday, June 2, 2009.

Docket Numbers: ER09-1125-000.

Applicants: Macquarie Cook Power Inc.

Description: Macquarie Cook Power Inc. submits Original Sheet 1 and 2 to FERC Electric Tariff No. 2, Original Volume No. 1.

Filed Date: 05/12/2009.

Accession Number: 20090513-0238.

Comment Date: 5 p.m. Eastern Time on Tuesday, June 2, 2009.

Docket Numbers: ER09-1128-000.

Applicants: SG Energy LLC.

Description: SG Energy LLC submits notice of cancellation of its FERC Electric Tariff, Original Volume No. 1, to be effective 5/18/09.

Filed Date: 05/12/2009.

Accession Number: 20090513-0237.

Comment Date: 5 p.m. Eastern Time on Tuesday, June 2, 2009.

Docket Numbers: ER09-1129-000.

Applicants: Citadel Energy Products LLC.

Description: Citadel Energy Products LLC submits Notice of Cancellation of First Revised FERC Electric Tariff 1 to its market-based rate schedule.

Filed Date: 05/12/2009.

Accession Number: 20090513-0247.

Comment Date: 5 p.m. Eastern Time on Tuesday, June 2, 2009.

Docket Numbers: ER09-1130-000.

Applicants: Southwest Power Pool Inc.

Description: Southwest Power Pool, Inc. submits executed Designee Qualification and Novation Agreement among SPP, Western Farmers Electric Cooperative, and ITC Great Plains, LLC.

Filed Date: 05/12/2009.

Accession Number: 20090513-0236.

Comment Date: 5 p.m. Eastern Time on Tuesday, June 2, 2009.

Docket Numbers: ER09-1134-000.

Applicants: PacifiCorp.

Description: PacifiCorp submits Small Generator Interconnection Agreement Facilities Maintenance Agreement dated 4/20/09 with Klamath Geothermal 1 KL-01 etc. Original Sheet 1 to FERC Electric Tariff 7th Rev. Volume 11 Service Agreement 565.

Filed Date: 05/13/2009.

Accession Number: 20090514-0050.

Comment Date: 5 p.m. Eastern Time on Wednesday, June 3, 2009.

Docket Numbers: ER09-1135-000.

Applicants: Florida Power Corporation.

Description: Progress Energy Florida, Inc submits Osceola Facility Parallel Operation Agreement Rate Schedule 209, Original Sheets 1-11 with Seminole Electric Cooperative, Inc.

Filed Date: 05/13/2009.

Accession Number: 20090514-0049.

Comment Date: 5 p.m. Eastern Time on Wednesday, June 3, 2009.

Docket Numbers: ER09-1136-000.

Applicants: ISO New England Inc. & New England Power.

Description: ISO New England Inc. et al. submits Revised Sheet 7001 et al. to FERC Electric Tariff 3 Section III—Market Rule 1—Standard Market Design Table of Contents.

Filed Date: 05/13/2009.

Accession Number: 20090514-0048.

Comment Date: 5 p.m. Eastern Time on Wednesday, June 3, 2009.

Docket Numbers: ER09-1139-000.

Applicants: Southwest Power Pool, Inc.

Description: Southwest Power Pool submits Original Service Agreement 1783 to its FERC Electric Tariff, Fifth Revised Volume 1.

Filed Date: 05/14/2009.

Accession Number: 20090514-0126.

Comment Date: 5 p.m. Eastern Time on Thursday, June 4, 2009.

Docket Numbers: ER09-1140-000.

Applicants: Southwest Power Pool, Inc.

Description: Southwest Power Pool submits Original Service Agreement 1804 to its FERC Electric Tariff, Fifth Revised Volume 1 to be effective 7/13/09.

Filed Date: 05/14/2009.

Accession Number: 20090514-0125.

Comment Date: 5 p.m. Eastern Time on Thursday, June 4, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-11956 Filed 5-21-09; 8:45 am]

BILLING CODE 6717-01-P